INTERNATIONAL TRADE COMMISSION

[Investigation Nos. 701-TA-738 and 731-TA-1713-1715 (Final)]

Hexamine (Hexamethylenetetramine) From Germany, India, and Saudi Arabia; Determinations

On the basis of the record ¹ developed in the subject investigations, the United States International Trade Commission (“Commission”) determines, pursuant to the Tariff Act of 1930 (“the Act”), that an industry in the United States is materially injured by reason of imports of hexamine from Germany, India, and Saudi Arabia, provided for in subheading 2933.69.50 of the Harmonized Tariff Schedule of the United States, that have been found by the U.S. Department of Commerce (“Commerce”) to be sold in the United States at less than fair value (“LTFV”) and subsidized by the government of India.² ³ ⁴

¹ The record is defined in § 207.2(f) of the Commission's Rules of Practice and Procedure (19 CFR 207.2(f)).

² 90 FR 45728, 45725, 45723, and 45720 (September 23, 2025).

³ Commissioner David S. Johanson determines that an industry in the United States is threatened with material injury by reason of imports of hexamine from Germany, India, and Saudi Arabia that have been found by Commerce to be sold in the United States at LTFV and subsidized by the government of India.

⁴ The Commission also finds that imports subject to Commerce's affirmative critical circumstances determinations with respect to Germany and India are not likely to undermine seriously the remedial effect of the antidumping duty order on hexamine from Germany or the antidumping duty and countervailing duty orders on hexamine from India.

Background

The Commission instituted these investigations effective September 30, 2024, following receipt of petitions filed with the Commission and Commerce by Bakelite Synthetics (Atlanta, Georgia). The Commission scheduled the final phase of the investigations following notification of preliminary determinations by Commerce that imports of hexamine from China were subsidized within the meaning of section 703(b) of the Act (19 U.S.C. 1671b(b)) and sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 22, 2025 (90 FR 21948 and as revised in 90 FR 31241, July 14, 2025). The Commission conducted its hearing on July 18, 2025. All persons who requested the opportunity were permitted to participate.

The investigation schedules became staggered when Commerce did not align its antidumping and countervailing duty investigations with respect to China with its antidumping duty investigations with respect to Germany, India, and Saudi Arabia, and its countervailing duty investigation with respect to India, and reached earlier final antidumping and countervailing duty determinations with respect to China. On September 3, 2025, the Commission issued final affirmative determinations in its antidumping and countervailing duty investigations of hexamine from China (90 FR 43234, September 8, 2025). Following notification of final determinations by Commerce that imports of hexamine from Germany, India, and Saudi Arabia were being sold at LTFV within the meaning of section 735(a) of the Act (19 U.S.C. 1673d(a)) and that imports of hexamine from India were being subsidized within the meaning of section 703(b) of the Act (19 U.S.C. 1671b(b)), notice of the supplemental scheduling of the final phase of the Commission's antidumping duty investigations with respect to Germany, India, and Saudi Arabia and its countervailing duty investigation with respect to India was given by posting copies of the notice in the Office of the Secretary, U.S. International Trade Commission, Washington, DC, and by publishing the notice in the Federal Register on October 1, 2025 (90 FR 47327).⁵

⁵ Due to the lapse in appropriations and ensuing cessation of Commission operations, the Commission tolled its schedule for this proceeding. The schedule was revised in a subsequent notice published in the Federal Register on November 20, 2025 (90 FR 52436).

The Commission made these determinations pursuant to §§ 705(b) and 735(b) of the Act (19 U.S.C. 1671d(b) and 19 U.S.C. 1673d(b)). It completed and filed its determinations in these investigations on December 22, 2025. The views of the Commission are contained in USITC Publication 5693 (December 2025), entitled Hexamine (Hexamethylenetetramine) from Germany, India, and Saudi Arabia: Investigation Nos. 701-TA-738 and 731-TA-1713-1715 (Final).

By order of the Commission.
Issued: December 22, 2025.
Lisa Barton,
Secretary to the Commission.

[FR Doc. 2025-23929 Filed 12-29-25; 8:45 am]

BILLING CODE 7020-02-P